DEPARTMENT OF COMMERCE

Foreign-Trade Zones Board

[B-21-2018]

Foreign-Trade Zone (FTZ) 249—Pensacola, Florida; Notification of Proposed Production Activity; GE Renewables North America, LLC (Wind Turbine Nacelles, Hubs, and Drivetrains); Pensacola, Florida

GE Renewables North America, LLC (GE Renewables) submitted a notification of proposed production activity to the FTZ Board for its facility in Pensacola, Florida. The notification conforming to the requirements of the regulations of the FTZ Board (15 CFR 400.22) was received on April 9, 2018.

GE Renewables already has authority to produce wind turbines, related hubs and nacelles, and drivetrains within Subzone 249A. The current request would add foreign status materials/components to the scope of authority. Pursuant to 15 CFR 400.14(b), additional FTZ authority would be limited to the specific foreign-status materials/components described in the submitted notification (as described below) and subsequently authorized by the FTZ Board.

Production under FTZ procedures could exempt GE Renewables from customs duty payments on the foreign-status materials/components used in export production. On its domestic sales, GE Renewables would be able to choose the duty rate during customs entry procedures that applies to the finished products in the existing scope of authority for the foreign-status materials/components noted below. Customs duties also could possibly be deferred or reduced on foreign-status production equipment. GE Renewables would be able to avoid duty on foreign-status components which become scrap/waste. Customs duties also could possibly be deferred or reduced on foreign-status production equipment.

The materials/components sourced from abroad include: top box kits; polypropylene clamps; fiberglass locknuts; fiber optic harnesses with temperature detectors; electrical harnesses; cable-assembly wind sensors; ground cables; cable harnesses; cable glands; steel washers; steel nuts; copper ferrules; desiccants; steel screws; panel assembly adaptors; steel bars; transformers; pitch cabinet kits; cable ties; steel bushings; limit switches, and steel brackets (duty rate ranges from duty-free to 8.5%). The request indicates that steel bars will be admitted to the zone in privileged foreign status (19 CFR 146.41), thereby precluding inverted tariff benefits on such items.

Public comment is invited from interested parties. Submissions shall be addressed to the Board's Executive Secretary at the address below. The closing period for their receipt is May 29, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Wedderburn at Chris.Wedderburn@trade.gov or (202) 482-1963.

Dated: April 11, 2018.
Andrew McGilvray,
Executive Secretary.

[FR Doc. 2018-08117 Filed 4-17-18; 8:45 am]

BILLING CODE 3510-DS-P